DEPARTMENT OF TRANSPORTATION

National Highway Traffic Safety Administration

[Docket No. NHTSA 2006-23553; Notice 2]

Pacific Coast Retreaders, Inc., Grant of Petition for Decision of Inconsequential Noncompliance

Pacific Coast Retreaders, Inc. (Pacific Coast) has determined that certain tires that it imported do not comply with S6.5(b) of 49 CFR 571.119, Federal Motor Vehicle Safety Standard (FMVSS) No. 119, “New pneumatic tires for vehicles other than passenger cars.” Pursuant to 49 U.S.C. 30118(d) and 30120(h), Pacific Coast has petitioned for a determination that this noncompliance is inconsequential to motor vehicle safety and has filed an appropriate report pursuant to 49 CFR part 573, “Defect and Noncompliance Reports.” Notice of receipt of a petition was published, with a 30-day comment period, on January 19, 2006, in the Federal Register (71 FR 3152). NHTSA received no comments.

Affected are a total of approximately 780 tires produced in March 2005 by Linglong Rubber Company in China and imported by Pacific Coast in April 2005. One requirement of S6.5 of FMVSS No. 119, tire markings, is that the tire identification shall comply with 49 CFR part 574, “Tire Identification and Recordkeeping,” which includes the marking requirements of 574.5(b) DOT size code. The subject tires are missing the required tire size code. Pacific Coast has corrected the problem that caused these errors so that they will not be repeated in future production.

Pacific Coast believes that the noncompliance is inconsequential to motor vehicle safety and that no corrective action is warranted. Pacific Coast explains that, as a result of mold cleaning and repair, some of the tire size code symbols were not restamped after repair, and worn symbols were not re-traced. Pacific Coast states that “the tire size is embossed in very larger (sic) raised characters on both sidewalls and [is] easily identifiable from a great distance.” The petitioner states that as a result, there is no confusion as to the tire size.

NHTSA agrees with Pacific Coast that the noncompliance is inconsequential to motor vehicle safety. As Pacific Coast points out, the tires do have markings which provide the correct size. Therefore, there should be no confusion by the user of this information.

In consideration of the foregoing, NHTSA has decided that the petitioner has met its burden of persuasion that the noncompliance described is inconsequential to motor vehicle safety. Accordingly, Pacific Coast's petition is granted and the petitioner is exempted from the obligation of providing notification of, and a remedy for, the noncompliance.

Authority: (49 U.S.C. 30118, 30120; delegations of authority at CFR 1.50 and 501.8).

Issued on: March 14, 2006.
Daniel C. Smith,
Associate Administrator for Enforcement.

[FR Doc. E6-4018 Filed 3-20-06; 8:45 am]

BILLING CODE 4910-59-P